DEPARTMENT OF ENERGY

Federal Energy Regulatory Commission

[ Project No. 13768-001]

FFP Solia 6 Hydroelectric, LLC; Notice of Intent To File License Application, Filing of Pre-Application Document, and Approving Use of the Traditional Licensing Process

a. Type of Filing: Notice of Intent to File License Application and Request to Use the Traditional Licensing Process.

b. Project No.: 13768-001.

c. Date Filed: August 17, 2012.

d. Submitted By: Free Flow Power Corporation on behalf of its subsidiary limited liability corporation, Solia 6 Hydroelectric, LLC.

e. Name of Project: Montgomery Lock and Dam Hydroelectric Project.

f. Location: At the existing U.S. Army Corp of Engineer's Montgomery Lock and Dam on the Ohio River in Beaver County, Pennsylvania. The project would occupy United States lands administered by the U.S. Army Corps of Engineers.

g. Filed Pursuant to: 18 CFR 5.3 of the Commission's regulations.

h. Potential Applicant Contact: Ramya Swaminathan, Chief Operating Officer, Free Low Power, 239 Causeway Street, Boston, MA 02114-2130; (978) 283-2822; or email at rswaminathan@free-flow-power.com.

i. FERC Contact: Gaylord Hoisington at (202) 502-6032 or email at gaylord.hoisington@ferc.gov.

j. Free Flow Power filed its request to use the Traditional Licensing Process on August 17, 2012. Free Flow Power provided public notice of its request on August 13, 2012. In a letter dated October 4, 2012, the Director of the Division of Hydropower Licensing approved Free Flow Power's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305 (b) of the Magnuson-Stevens Fishery Conservation and Management Act and implementing regulations at 50 CFR 600.920; and the (c) Pennsylvania State Historic Preservation Officer, as required by section 106, National Historic Preservation Act, and the implementing regulations of the Advisory Council on Historic Preservation at 36 CFR 800.2.

l. With this notice, we are designating Free Flow Power as the Commission's non-federal representative for carrying out informal consultation, pursuant to section 7 of the Endangered Species Act, section 305 of the Magnuson-Stevens Fishery Conservation Act, and section 106 of the National Historic Preservation Act.

m. Free Flow Power filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filings and issuances related to this or other pending projects. For assistance, contact FERC Online Support.

Dated: October 11, 2012.
Kimberly D. Bose,
Secretary.

[FR Doc. 2012-25514 Filed 10-16-12; 8:45 am]

BILLING CODE 6717-01-P